FEDERAL HOUSING FINANCE AGENCY

12 CFR Part 1200

RIN 2590-AA75

Organization and Functions, and Seal Amendments

AGENCY: Federal Housing Finance Agency.

ACTION: Final rule.

SUMMARY: The Federal Housing Finance Agency (FHFA) is adopting a final rule that makes technical amendments to descriptions of its organization and structure and its seal and logo.

DATES: Effective July 31, 2015.

FOR FURTHER INFORMATION CONTACT: Alfred M. Pollard, General Counsel, Office of the General Counsel, (202) 649-3050 (not a toll-free number), Alfred.Pollard@fhfa.gov, 400 Seventh Street SW., Eighth Floor, Washington, DC 20024. The telephone number for the Telecommunications Device for the Hearing Impaired is (800) 877-8339.

SUPPLEMENTARY INFORMATION:

I. Background

Effective July 30, 2008, Division A of the Housing and Economic Recovery Act of 2008 (HERA), Public Law 110-289, 122 Stat. 2654 (2008), titled the Federal Housing Finance Regulatory Reform Act of 2008, amended the Federal Housing Enterprises Financial Safety and Soundness Act of 1992 (12 U.S.C. 4501 et seq.) (Safety and Soundness Act) and created FHFA as an independent agency of the federal government. HERA provided for the abolishment of the Office of Federal Housing Enterprise Oversight (OFHEO) and the Federal Housing Finance Board (Finance Board) one year after the date of enactment. Those agencies, together with the Housing and Urban Development Enterprise mission staff, were combined to establish FHFA. FHFA was established to oversee the prudential operations of the Federal National Mortgage Association (Fannie Mae), the Federal Home Loan Mortgage Corporation (Freddie Mac), and the Federal Home Loan Banks; and to ensure that they operate in a safe and sound manner, remain adequately capitalized, foster liquid, efficient, competitive and resilient national housing finance markets, comply with the Safety and Soundness Act and their respective authorizing statutes, as well as all rules, regulations, guidelines and orders under those statutes, and carry out their missions through activities that are authorized by their respective statutes and are consistent with the public interest. FHFA also has regulatory authority over the Federal Home Loan Bank System's Office of Finance under section 1311(b)(2) of the Safety and Soundness Act (12 U.S.C. 4511(b)(2)).

II. Description of the Rule

The final rule makes minor changes to delete references to offices within FHFA that no longer exist and to more clearly express the ability to create positions and offices within the agency. Additionally, FHFA has changed its official logo and seal.

III. Regulatory Impact

Administrative Procedure Act

In promulgating this final rule, FHFA has determined that notice and public comment are not necessary. Section 553(b)(A) of title 5, United States Code, provides that when regulations involve matters of agency organization, procedure or practice, the agency may publish regulations in final form. In addition, FHFA finds, in accordance with 5 U.S.C. 553(d), that a delayed effective date is unnecessary. Accordingly, this rule is effective upon publication.

Paperwork Reduction Act

This final rule does not contain any information collection requirements that require the approval of the Office of Management and budget under the Paperwork Reduction Act (44 U.S.C. 3501 et seq.).

Regulatory Flexibility Act

Because no notice of proposed rulemaking is required for this rule, the provisions of the Regulatory Flexibility (5 U.S.C. 601 et seq.) do not apply. See 5 U.S.C. 601(2) and 603(a).

List of Subjects in 12 CFR Part 1200

Organization and functions (Government agencies), Seals and insignia.

Authority and Issuance

Accordingly, for the reasons stated in the Supplementary Information, under the authority of 12 U.S.C. 4526, 12 U.S.C. 4512, and 5 U.S.C. 552, FHFA is amending part 1200 of Chapter XII, title 12 of the Code of Federal Regulations as follows:

PART 1200—ORGANIZATION AND FUNCTIONS

1. The authority citation for part 1200 continues to read as follows:

Authority: 5 U.S.C. 552, 12 U.S.C. 4512, 12 U.S.C 4526.

2. Amend § 1200.2 by revising paragraph (f) to read as follows:

§ 1200.2 Organization of the Federal Housing Finance Agency.

* * * * *

(f) Other Offices and Departments. The Director may from time to time establish or terminate Offices and Divisions of the agency as the Director deems necessary or appropriate to carry out FHFA's mission. The Director may establish Offices and positions as the Director deems necessary and appropriate to support the operations of a federal agency, such as a Deputy Director for one or more specified areas of responsibility, a Chief Operating Officer, a Chief Financial Officer, an Office of Information Technology, and such other offices, departments, and positions as are necessary and appropriate or may be required by statute.

* * * * *

3. Amend § 1200.3 by revising paragraphs (a) and (b) to read as follows:

§ 1200.3 Official logo and seal.

* * * * *

(a) Description. The logo is a disc consisting of three polygons each drawn in a manner resembling a silhouette of a pitched roof house and with distinctive eaves under its roof. Each polygon is placed one in front of the other, two of which are diminished in size from the polygon behind it. Placed in the center of the smallest polygon is the acronym for the organization, “FHFA.” The polygons are encircled by a designation scroll having a solid background and containing the words “FEDERAL HOUSING FINANCE AGENCY” in capital letters with serifs, with two mullets on the extreme left and right of the scroll. Upon approval by the Director, FHFA may employ variations of the color or shading of its logo and seal for specified purposes; these will be available for reference on the agency Web site at www.fhfa.gov.

(b) Display. FHFA's official logo and seal appears below:

Dated: July 27, 2015.
Melvin L. Watt,
Director, Federal Housing Finance Agency.

[FR Doc. 2015-18812 Filed 7-30-15; 8:45 am]

BILLING CODE 8070-01-P